DEPARTMENT OF COMMERCE

National Oceanic and Atmospheric Administration

[RTID 0648-XB489]

Fisheries Finance Program; Announcement of Availability of Federal Financial Assistance for Western Alaskan Community Development Groups

AGENCY: National Marine Fisheries Service (NMFS), National Oceanic and Atmospheric Administration (NOAA).

ACTION: Notice of availability of Federal financial assistance for Western Alaskan Community Development Quota Groups.

SUMMARY: NMFS announces the availability of long-term direct loans for Western Alaskan Community Development Quota (CDQ) groups through the Community Development Loan program as a component of the Fisheries Finance Program (FFP). The Community Development loans will provide financing for the purchase of all or part of ownership interests in fishing or processing vessels, shoreside fish processing facilities, permits, quota, and cooperative rights in any of the Bering Sea and Aleutian Island fisheries. FFP loans are not issued for purposes that could contribute to over-fishing.

DATES: Letters of interest must be received by April 25, 2022. Applications should be submitted beginning April 25, 2022 and must be received by June 24, 2022.

ADDRESSES: Letters of interest will only be accepted via email to scott.houghtaling@noaa.gov. Applications must be submitted electronically to scott.houghtaling@noaa.gov through secure transmissions.

FOR FURTHER INFORMATION CONTACT: Applicants may obtain information regarding Community Development loans by contacting: Scott Houghtaling, Branch Chief; Northwest Financial Services Branch, F/MB53 National Marine Fisheries Service, National Oceanic and Atmospheric Administration. Phone: (206) 526-6122 or by email to scott.houghtaling@noaa.gov.

SUPPLEMENTARY INFORMATION:

I. Introduction

A. Authority

The FFP's primary statutory authority is found in Title XI of the Merchant Marine Act, 1936, as amended and now recodified at 46 U.S.C. 53701, et seq. (Act). The Sustainable Fisheries Act (SFA) (Pub. L. 104-297, 110 Stat 3559) amended section 1104A(a)(7) of Title XI of the Merchant Marine Act of 1936 and section 303(d)(4) of the Magnuson-Stevens Fishery Conservation and Management Act (Magnuson-Stevens Act) (16 U.S.C. 1801 et seq.) to authorize Individual Fishing Quota financing.

Authority for the Community Development Loan program for CDQ lending as a component of the FFP is found in the Omnibus Consolidated and Emergency Supplemental Appropriations Act, 1999, Public Law 105-277, 112 stat. 2681-635, Section 211(e), as amended by the Science, State, Justice, Commerce, and Related Agencies Appropriations Act of 2006, Public Law 109-108, 119 Stat. 2311-2312 and the Coast Guard and Maritime Transportation Act of 2006, Public Law 109-241, 120 stat. 545, section 416(c). NMFS published a final rule for CDQ lending in the Federal Register on December 16, 2010 (75 FR 78619), codified at 50 CFR part 253. This authority is subject to the Federal Credit Reform Act of 1990 (FCRA) (2 U.S.C. 661 et seq.) and the Single Audit Act Amendments of 1996 (31 U.S.C. 7501 et seq.). CDQ loans are subject to all FFP general credit standards and requirements, except that CDQ loans may have terms up to thirty years pursuant to 50 CFR 253.29(d), but shall not exceed the project property's useful life. Collateral, guarantee and other requirements may be adjusted to individual credit risks.

B. Assistance Listings

The FFP is listed on www.sam.gov under the “Catalog of Federal Domestic Assistance” number 11.415: Fisheries Finance Program.

C. Funding Availability

The amount of credit authority available for the purposes of purchasing all or part of the ownership interests in fishing or processing vessels, shoreside fish processing facilities, permits, quota, and cooperative rights in any of the Bering Sea and Aleutian Island fisheries, is approximately $197,284,200. This amount is available until expended.

D. Eligibility Criteria

Eligible applicants are defined in Public Law 105-277, 112 Stat 2681, Section 211(e). The following six CDQ groups are eligible to apply:

1. Aleutian Pribilof Island Community Development Association;

2. Bristol Bay Economic Development Corporation;

3. Central Bering Sea Fishermen's Association;

4. Coastal Villages Region Fund;

5. Norton Sound Economic Development Corporation; and

6. Yukon Delta Fisheries Development Association.

E. Process & Priority for Accepting Applications

(1) The FFP has approximately $197,284,200 in CDQ loan authority. Each of the six CDQ groups may submit a letter of interest to borrow up to $32,880,700 for a qualified FFP loan project(s) by April 25, 2022.

(2) Letters of interest will only be accepted via email to scott.houghtaling@noaa.gov.

(3) NMFS will respond to letters of interest from the CDQ groups by providing FFP Loan Application Form, NOAA Form 88-1 and instructions for submitting applications electronically through secure transmissions. Applications will only be accepted electronically through secured transmissions.

(4) If NMFS does not receive letters of interest from the CDQ groups totaling $197,280,000 by April 25, 2022, NMFS will inform the 6 CDQ groups that the remaining funds will be available on a first come basis. Any CDQ group that has already submitted a letter of interest may adjust its funding request in a subsequent letter of interest or application should remaining funds be available as described, and any CDQ group that had not previously submitted a letter of interest may still do so in the event of any remaining funds. There is no preference for a letter of interest or application for remaining funds, either will be accepted for purposes of determining who has expressed interest first, provided that a timely application is subsequently received by June 24, 2022. If at any time, the total amounts requested exceed the lending authority listed above, priority will be based on the date and time of the electronic submission.

(5) NMFS will begin accepting applications on April 25, 2022 at 9 a.m., EDT. Applications received before this time will not be accepted. Applications will be reviewed in the order in which they are received. Applications must be submitted electronically to scott.houghtaling@noaa.gov through secure transmissions. Each CDQ group will have until June 24, 2022 to submit a loan application(s).

(6) If NMFS does not receive any loan applications by June 24, 2022 for the extent of its loan authority, NMFS will inform the 6 CDQ groups that the remaining funds will be available on a first come basis. If at any time, the total amounts requested exceed the lending authority listed above, priority will be based on the date and time of the electronic submission.

II. Administrative Requirements & Evaluation Criteria

(1) Per Section 1.A. of this notification, Community Development loans to CDQ groups are subject to all FFP general credit standards and requirements in 50 CFR part 253. These include, for example, requirements for applicable interest rates, principal, collateral, and working capital, lending restrictions, ability and experience requirements, and application fees. In addition, NMFS will not approve loans for fisheries that are listed as overfished or subject to overfishing. NMFS will undertake a due diligence investigation of every application to determine if, in its sole judgment, the application is both eligible for a loan because it meets the applicable loan requirements and qualified because the project is deemed an acceptable credit risk. Among other investigations, applicants may be subject to a background check, fisheries violations check and credit review. Background checks are intended to reveal if any key individuals associated with the project have been convicted of, or are presently facing criminal charges such as fraud, theft, perjury, or other matters which significantly reflect on the applicant's honesty or financial integrity.

(2) Community Development loans to CDQ groups are also subject to the requirements for Federal loans codified in the Uniform Administrative Requirements, Cost Principles and Audit Requirements for Federal Awards, as described in 2 CFR 200.101(b), adopted by the Department of Commerce in 2 CFR part 1327. Applicable requirements for Federal loans include, but are not limited to, internal controls (2 CFR 200.303) and audit requirements (2 CFR part 200, subpart F). Prospective “participants” (as defined at 2 CFR 180.980) are subject to 2 CFR part 180, subparts A through I, as supplemented by 2 CFR part 1326, regarding “Nonprocurement Debarment and Suspension.” Disclosure of an applicant's Taxpayer Identification Number, and, to the extent permitted by applicable law, the social security number for an individual, may be made in the event NMFS takes action to exclude a person under the nonprocurement debarment and suspension system using the System for Award Management Exclusions, as described in 2 CFR part 180, subpart E.

(3) In accordance with the provisions of the Debt Collection Improvement Act of 1996, a person may not obtain any Federal financial assistance in the form of a loan (other than a disaster loan) or loan guarantee if the person has an outstanding debt (other than a debt under the Internal Revenue Code of 1986) with any Federal agency which is in a delinquent status, as determined under standards prescribed by the Secretary of the Treasury.

(4) A false statement on an application is grounds for denial or termination of funds and grounds for possible punishment by a fine or imprisonment as provided in 18 U.S.C. 1001 and an event of a security default. 50 CFR 253.12(c).

(5) Recipients of Federal loans are subject to the applicable lobbying provisions of 31 U.S.C. 1352, “Limitation on use of appropriated funds to influence certain Federal contracting and financial transactions.” Applicants must submit a completed Form CD-511, “Certification Regarding Lobbying.”

(6) An applicant classified for tax purposes as an individual, limited liability company, partnership, proprietorship, corporation, or legal entity is required to submit a taxpayer identification number (TIN) (either social security number, employer identification number as applicable, or registered foreign organization number) on Form W-9, “Payers Request for Taxpayer Identification Number.” Recipients who either fail to provide their TIN or provide an incorrect TIN may have funding suspended until the requirement is met.

(7) An audit of a Community Development loan may be conducted at any time; expenditures of or exceeding $750,000 during a non-Federal entity's fiscal year in Federal awards must have a single or program-specific audit for that year. 50 CFR 253.25(d); 2 CFR 200.501(a). Auditee responsibilities are set forth in 2 CFR 200.508. Auditors, selected pursuant to 2 CFR 200.509, shall have access to any and all personnel, accounts, books, documents, papers and records, supporting documentation and other information of the obligor or any other party to a financing, that the auditor(s) deem pertinent, whether written, printed, recorded, produced or reproduced by any mechanical, magnetic or other process or medium.

III. Regulatory Determinations

Neither the Administrative Procedure Act nor any other law requires prior notice and opportunity for public comment about this document (which concerns loans). Consequently, the Regulatory Flexibility Act does not require a regulatory flexibility analysis. This action is not a “regulation” for purposes of Executive Order 12866 (Regulatory Planning and Review) nor does it constitute a policy that has federalism implications under Executive Order 13132 (Federalism).

This notification contains and refers to collection-of-information requirements subject to the Paperwork Reduction Act. The application requirements contained in the notification have been approved under OMB control number 0648-0012. Notwithstanding any other provision of law, no person is required to respond to, nor shall any person be subject to a penalty for failure to comply with, a collection of information subject to the requirements of the Paperwork Reduction Act unless that collection of information displays a currently valid OMB control number.

This action is subject to the National Environmental Policy Act. Pursuant to the NOAA Administrative Order 216-6A and the NOAA Companion Manual (CM), “Policy and Procedures for Compliance with the National Environmental Policy Act and Related Authorities” (effective January 13, 2017), NMFS has determined that this action is categorically excluded from the requirement to prepare an environmental impact statement or environmental assessment under Categorical Exclusion D.1, at CM Appendix E. The action does not involve any of the extraordinary circumstances provided in NOAA's NEPA procedures, and therefore does not require further analysis to determine whether the action may have significant effects (CM at 4.A).

Dated: March 22, 2022.
Brian Pawlak,
Director, NMFS Office of Management and Budget.

[FR Doc. 2022-06336 Filed 3-24-22; 8:45 am]

BILLING CODE 3510-22-P